DEPARTMENT OF COMMERCE

Economics and Statistics Administration

Performance Review Board Membership

SUMMARY: Below is a listing of individuals who are eligible to serve on the Performance Review Board in accordance with the Economics and Statistics Administration's Senior Executive Service and Senior Professional Performance Management Systems:

Preston Jay Waite, Shirin A. Ahmed, Teresa Angueira, William G. Bostic, Jr., Stephanie Brown, Nancy M. Gordon, Arnold A. Jackson, Theodore A. Johnson, Ruth Ann Killion, Robert LaMacchia, and Michael J. Longini.

Thomas L. Mesenbourg, Jr., Brian Monaghan, C. Harvey Monk, Andrew H. Moxam, Walter C. Odom, Jr., Richard W. Swartz, Mark Wallace, Daniel Winberg, Tommy Wright, and William Bell.

Robert E. Fay III, David F. Findley, Paul Friday, J. Steven Landfeld, Rosemary D. Marcuss, Dennis J. Fixler, Brent R. Moulton, Sumiye O. Okubo, Joel Platt, James K. White, Dr. Jennifer Madans, and Katherine Wallman.

FOR FURTHER INFORMATION CONTACT: Crystal Roy, 301-763-3727.

Dated: September 4, 2007.
James K. White,
Associate Under Secretary for Management, Chair, Performance Review Board.

[FR Doc. 07-4556 Filed 9-13-07; 8:45 am]

BILLING CODE 3510-BS-M